DEPARTMENT OF DEFENSE

Department of the Air Force

32 CFR Part 887

[Docket ID: USAF-2019-HQ-0004]

RIN 0701-AA90

Issuing of Certificates in Lieu of Lost or Destroyed Certificates of Separation

AGENCY: Department of the Air Force, DoD.

ACTION: Final rule.

SUMMARY: This final rule removes the Department of the Air Force's regulation regarding the process for replacing lost or destroyed separation documentation. Since the publication of this rule, the National Archives and Records Administration (NARA) has assumed control of the records concerned and the document release process. The content of this part is now addressed in a NARA regulation. Therefore, this part is unnecessary and may be removed from the CFR.

DATES: This rule is effective on October 1, 2019.

FOR FURTHER INFORMATION CONTACT: Maj Amanda J. Pelkowski, 318-484-6294.

SUPPLEMENTARY INFORMATION: This final rule removes 32 CFR part 887, “Issuing of Certificates in Lieu of Lost or Destroyed Certificates of Separation,” which was codified on January 14, 1988 (53 FR 876), and never updated. It has been determined that publication of this CFR part removal for public comment is impracticable, unnecessary, and contrary to public interest since it is based on removing content which is covered in the NARA regulation at 36 CFR part 1233, “Transfer, Use, and Disposition of Records in a NARA Federal Records Center,” codified on October 2, 2009 (74 FR 51014), and most recently updated on March 30, 2018 (83 FR 13655). Part 1233 outlines the requirement to fill out a Standard Form 180, “Request Pertaining to Military Records.” NARA's regulation also directs military veterans and their next of kin to its website, which outlines procedures for requesting copies of military records held by the Services as well as NARA (Source: http://www.archives.gov/veterans/evetrecs).

To the extent that internal Air Force procedures concerning military records are necessary, it will continue to be published in Air Force Instruction 36-2608, “Military Personnel Records System,” which was updated on October 26, 2015, and is available at http://static.e-publishing.af.mil/production/1/af_a1/publication/afi36-2608/afi36-2608.pdf.

This rule is not significant under Executive Order (E.O.) 12866, “Regulatory Planning and Review.” Therefore, E.O. 13771, “Reducing Regulation and Controlling Regulatory Costs,” does not apply.

List of Subjects in 32 CFR Part 887

Archives and records, Military personnel.

PART 887—[REMOVED]

Accordingly, by the authority of 5 U.S.C. 301, 32 CFR part 887 is removed.

Adriane Paris,
Acting Air Force Federal Register Liaison Officer.

[FR Doc. 2019-21172 Filed 9-30-19; 8:45 am]

BILLING CODE 5001-10-P